DEPARTMENT OF THE INTERIOR

Bureau of Land Management

[UT-921-5440-EU-J010; UTU-089084]

Termination of Classification for Price Administrative Site; Utah

(Authority: BLM Manual 1203)

AGENCY: Bureau of Land Management, Interior.

ACTION: Notice.

SUMMARY: This notice terminates the classification of 10.02 acres of public land classified for the Price Administrative Site. The land is no longer needed for administrative site purposes. The land is temporarily segregated from surface entry and mining by a pending exchange application and will not be opened at this time.

EFFECTIVE DATE: June 18, 2002.

FOR FURTHER INFORMATION CONTACT: Mark Mackiewicz, BLM, Price Field Office, 125 South, 600 West, Price, Utah 84501, (435) 636-3616, or email: mark_mackiewicz@ut.blm.gov.

SUPPLEMENTARY INFORMATION: On May 18, 1955, and later on May 8, 1962, the Price Administrative Site was classified for administrative site purposes and retention in public ownership. The Bureau of Land Management has determined that the land is no longer needed for administrative site purposes. The land is temporarily segregated by a pending exchange application and will not be opened at this time. The land is described as follows:

Salt Lake Meridian

T. 14 S., R. 10 E.,

sec .9, lots 11 and 22.

The area described contains 10.02 acres in Carbon County.

The classification for administrative site purposes and public retention dated May 18, 1955, and May 8, 1962 for the Price Administrative Site on the above described land is hereby terminated.

Dated: April 24, 2002.
Roger Zortman,
Deputy State Director.

[FR Doc. 02-15313 Filed 6-17-02; 8:45 am]

BILLING CODE 4310-$$-P